DEPARTMENT OF THE INTERIOR

Bureau of Land Management

43 CFR Parts 3160 and 3170

[15X.LLWO300000.L13100000.NB0000]

RIN 1004-AE15

Onshore Oil and Gas Operations; Federal and Indian Oil and Gas Leases; Site Security

AGENCY: Bureau of Land Management, Interior.

ACTION: Proposed rule; extension of public comment period.

SUMMARY: On July 13, 2015, the Bureau of Land Management (BLM) published in the Federal Register a proposed rule to establish minimum standards for site security at oil and gas facilities located on Federal and Indian (except Osage Tribe) lands. This proposed rule would replace Onshore Oil and Gas Order No. 3, Site Security (Order 3), with new regulations that would be codified in the Code of Federal Regulations. It includes provisions intended to ensure that oil and gas produced from Federal and Indian oil and gas leases are properly and securely handled, to ensure accurate measurement, production accountability, and royalty payments, and to prevent theft and loss.

The changes proposed as part of this proposed rule would allow the BLM to strengthen its policies governing production verification and accountability by updating Order 3's requirements to address changes in technology and industry practices that have occurred in the 25 years since Order 3 was issued, and to respond to recommendations made by the Government Accountability Office with respect to the BLM's production verification efforts. This notice extends the public comment period for 28 days beyond the initial comment-period deadline on the proposed rule.

DATES: The comment period for the proposed rule published on July 13, 2015 (80 FR 40768) is extended. Send your comments on this proposed rule to the BLM on or before October 9, 2015.

ADDRESSES: Mail: U.S. Department of the Interior, Director (630), Bureau of Land Management, Mail Stop 2134 LM, 1849 C St. NW., Washington, DC 20240, Attention: 1004-AE15. Personal or messenger delivery: Bureau of Land Management, 20 M Street SE., Room 2134 LM, Attention: Regulatory Affairs, Washington, DC 20003. Federal eRulemaking Portal: http://www.regulations.gov. Follow the instructions at this Web site.

FOR FURTHER INFORMATION CONTACT: Michael Wade, BLM Colorado State Office, at 303-239-3737. For questions relating to regulatory process issues, please contact Faith Bremner, BLM Washington Office, at 202-912-7441. Persons who use a telecommunications device for the deaf (TDD) may call the Federal Information Relay Service (FIRS) at 1-800-877-8339 to contact the above individuals during normal business hours. FIRS is available 24 hours a day, 7 days a week to leave a message or question with the above individuals. You will receive a reply during normal business hours.

SUPPLEMENTARY INFORMATION:

Public Comment Procedures

If you wish to comment, you may submit your comments by any one of several methods: Mail: You may mail comments to U.S. Department of the Interior, Director (630), Bureau of Land Management, Mail Stop 2134LM, 1849 C Street NW., Washington, DC 20240, Attention: 1004-AE15. Personal or messenger delivery: Bureau of Land Management, 20 M Street SE., Room 2134 LM, Attention: Regulatory Affairs, Washington, DC 20003. Federal eRulemaking Portal: http://www.regulations.gov. Follow the instructions at this Web site.

Please make your comments as specific as possible by confining them to issues directly related to the content of the proposed rule, and explain the basis for your comments. The comments and recommendations that will be most useful and likely to influence agency decisions are:

1. Those supported by quantitative information or studies; and

2. Those that include citations to, and analyses of, the applicable laws and regulations.

The BLM is not obligated to consider or include in the Administrative Record for the rule comments received after the close of the comment period (see DATES) or comments delivered to an address other than those listed above (see ADDRESSES). Comments, including names and street addresses of respondents, will be available for public review at the address listed under ADDRESSES during regular hours (7:45 a.m. to 4:15 p.m.), Monday through Friday, except holidays.

Before including your address, telephone number, email address, or other personal identifying information in your comment, be advised that your entire comment—including your personal identifying information—may be made publicly available at any time. While you can ask in your comment to withhold from public review your personal identifying information, we cannot guarantee that we will be able to do so.

Background

The proposed rule was published on July 13, 2015 (80 FR 40768), with a 60-day comment period closing on September 11, 2015. Since publication, the BLM has received requests for extension of the comment period on the proposed rule. In response to those comments, the BLM is extending the comment period on the proposed rule for 28 days. The closing date of the extended comment period is now October 9, 2015.

Dated: September 4, 2015.
Janice M. Schneider,
Assistant Secretary, Land and Minerals Management.

[FR Doc. 2015-22903 Filed 9-10-15; 8:45 am]

BILLING CODE 4310-84-P